DEPARTMENT OF ENERGY

Federal Energy Regulatory Commission

[Project No. 6032-041 New York]

Niagara Mohawk Power Corporation, Fourth Branch Associates; Notice of Availability of Draft Environmental Assessment

November 13, 2001.

In accordance with the National Environmental Policy Act of 1969 and the Federal Energy Regulatory Commission's (Commission) regulations, 18 CFR part 380 (Order No. 486, 52 FR 47897), the Office of Energy Projects has reviewed the Commission's Notice of Termination of License by Implied Surrender for the Machanicville Hydroelectric Project, located on the Hudson River in Saratoga and Rensselaer Counties, New York, and has prepared a Draft Environmental Assessment (DEA) for the project. No Federal lands or Indian reservations are occupied by project works or located within the project boundary.

The DEA contains the staff's analysis of the potential environmental impacts of the project and concludes that terminating the license by implied surrender, with appropriate environmental protective measures, would not constitute a major federal action that would significantly affect the quality of the human environment.

The staff also concludes that terminating the license by implied surrender constitutes an undertaking for the purposes of section 106 of the National Historic Preservation Act of 1966, as amended, and that such termination would have an effect on the Mechanicville Hydroelectric Project, a property listed in the National Register of Historic Places. All interested parties are requested to comment as instructed below.

A copy of the DEA is on file with the Commission and is available for public inspection. The DEA may also be viewed on the Web at http://www.ferc.gov using the “RIMS” link—select “Docket #” and follow the instructions (call 202-208-2222 for assistance).

Any comments should be filed within 45 days from the date of this notice and should be addressed to David P. Boergers, Secretary, Federal Energy Regulatory Commission, 888 First Street, NE, Washington, DC 20426. Please affix Project No. 6032-041 to all comments. Comments may be filed electronically via the Internet in lieu of paper. See 18 CFR 385.2001(a)(1)(iii) and the instructions on the Commission's Web site under the “e-Filing” link.

Due to current events, we cannot guarantee that we will receive mail on a timely basis from the U.S. Postal Service, and we do not know how long this situation will continue. However, we continue to receive filings from private mail delivery services, including messenger services in a reliable manner. The Commission encourages electronic filing of any comments in this proceeding. We will include all comments that we receive within a reasonable time in our environmental analysis of this project.

For further information, contact the Ellen Armbruster at (202) 208-1672.

David P. Boergers,
Secretary.

[FR Doc. 01-28783 Filed 11-16-01; 8:45 am]

BILLING CODE 6717-01-M